DEPARTMENT OF TRANSPORTATION

Federal Motor Carrier Safety Administration

[Docket No. FMCSA-2012-0040]

Qualification of Drivers; Exemption Applications; Vision

AGENCY: Federal Motor Carrier Safety Administration (FMCSA), DOT.

ACTION: Notice of applications for exemptions; request for comments.

SUMMARY: FMCSA announces receipt of applications from 10 individuals for exemption from the vision requirement in the Federal Motor Carrier Safety Regulations. If granted, the exemptions would enable these individuals to qualify as drivers of commercial motor vehicles (CMVs) in interstate commerce without meeting the Federal vision requirement.

DATES: Comments must be received on or before May 21, 2012.

ADDRESSES: You may submit comments bearing the Federal Docket Management System (FDMS) Docket No. FMCSA-2012-0040 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 10 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Rudolph P. Bisschop

Mr. Bisschop, age 55, has had amblyopia in his left eye since childhood. The best corrected visual acuity in his right eye is 20/30, and in his left eye, 20/80. Following an examination in 2011, his ophthalmologist noted, “In my medical opinion, you have sufficient stable vision to perform all of the driving tasks required to operate a commercial motor vehicle.” Mr. Bisschop reported that he has driven tractor-trailer combinations for 30 years, accumulating 1.9 million miles. He holds a Class A CDL from Massachusetts. His driving record for the last 3 years shows no crashes and no convictions for moving violations in a CMV.

Richard Doroba

Mr. Doroba, 46, has had amblyopia in his right eye since birth. The best corrected visual acuity in his right eye is 20/200, and in his left eye, 20/20. Following an examination in 2011, his optometrist noted, “Mr. Doroba, in my medical opinion, has sufficient vision to perform the driving tasks required of a commercial vehicle operator.” Mr. Doroba reported that he has driven tractor-trailer combinations for 25 years, accumulating 1.5 million miles. He holds a Class A CDL from Illinois. His driving record for the last 3 years shows one crash for which he was cited for speeding too fast for conditions and no convictions for moving violations in a CMV.

Dennis E. Fisher

Mr. Fisher, 55, has a history of macular degeneration in his right eye due to branch vein occlusion. The best corrected visual acuity in his right eye is 20/80, and in his left eye, 20/30. Following an examination in 2011, his ophthalmologist noted, “Has sufficient vision to perform the driving tasks required to operate a commercial vehicle.” Mr. Fisher reported that he has driven tractor-trailer combinations for 31 years, accumulating 3.6 million miles. He holds a Class A CDL from New York. His driving record for the last 3 years shows no crashes and no convictions for moving violations in a CMV.

Charles W. Gajefski

Mr. Gajefski, 53, has had a retinal scar in his right eye since childhood. The best corrected visual acuity in his right eye is 20/200, and in his left eye, 20/15. Following an examination in 2011, his optometrist noted, “It is my professional opinion that Charles is capable of safely performing the driving tasks necessary to operate a commercial vehicle.” Mr. Gajefski reported that he has driven tractor-trailer combinations for 2 years, accumulating 400,000 miles. He holds a Class A CDL from Colorado. His driving record for the last 3 years shows no crashes and no convictions for moving violations in a CMV.

Steven M. Martin

Mr. Martin, 45, has had amblyopia in his right eye since birth. The best corrected visual acuity in his right eye is 20/2000, and in his left eye, 20/20. Following an examination in 2011, his optometrist noted, “In my medical opinion, Mr. Martin has sufficient vision to operate a commercial motor vehicle.” Mr. Martin reported that he has driven straight trucks for 28 years, accumulating 84,000 miles and tractor-trailer combinations for 14 years, accumulating 196,000 miles. He holds a Class A CDL from Illinois. His driving record for the last 3 years shows no crashes but one conviction for speeding in a CMV. He exceeded the speed limit by 16 mph.

Charles A. Padgett

Mr. Padgett, 53, has had staphyloma in his right eye since birth. The best corrected visual acuity in his right eye is count-finger vision, and in his left eye, 20/20. Following an examination in 2011, his optometrist noted, “I do believe he has sufficient vision to perform the driving tasks required to operate a commercial vehicle.” Mr. Padgett reported that he has driven straight trucks for 9 years, accumulating 468,000 miles and tractor-trailer combinations for 6 years, accumulating 240,000 miles. He holds a Class A CDL from Florida. His driving record for the last 3 years shows no crashes and no convictions for moving violations in a CMV.

Joseph L. Ruff.

Mr. Ruff, 51, has had coat's disease in his right eye since birth. The visual acuity in his right eye is light perception, and in his left eye, 20/15. Following an examination in 2011, his ophthalmologist noted, “I feel that he has sufficient vision to perform driving tasks required to operate a commercial motor vehicle.” Mr. Ruff reported that he has driven straight trucks for 4 years, accumulating 52,000 miles. He holds a Class C operator's license from Georgia. His driving record for the last 3 years shows no crashes and no convictions for moving violations in a CMV.

Tommy Thomas

Mr. Thomas, 52, has a prosthetic right eye due to a traumatic injury sustained in 1971. The visual acuity in his right eye is no light perception, and in his left eye, 20/20. Following an examination in 2011, his ophthalmologist noted, “The patient has been advised of monocular precautions and is cleared to drive a commercial vehicle at this time.” Mr. Thomas reported that he has driven tractor-trailer combinations for 3 years, accumulating 195,000 miles. He holds a Class A CDL from California. His driving record for the last 3 years shows no crashes and no convictions for moving violations in a CMV.

Malcolm J. Tilghman, Sr.

Mr. Tilghman, 51, has had amblyopia in his right eye since birth. The best corrected visual acuity in his right eye is 20/400, and in his left eye, 20/20. Following an examination in 2011, his optometrist noted, “In this case I certify that vision in Mr. Tilghman's left eye qualifies him to operate a commercial motor vehicle.” Mr. Tilghman reported that he has driven straight trucks for 3 years, accumulating 687,500 miles and buses for 10 years, accumulating 100,000 miles. He holds a Class B CDL from Delaware. His driving record for the last 3 years shows no crashes and no convictions for moving violations in a CMV.

William S. Willis, Jr.

Mr. Willis, 74, has had amblyopia in his right eye since birth. The best corrected visual acuity in his right eye is 20/200, and in his left eye, 20/25. Following an examination in 2011, his ophthalmologist noted, “Has significant vision to operate commercial vehicle.” Mr. Willis reported that he has driven straight trucks for 57 years, accumulating 798,000 miles and tractor-trailer combinations for 30 years, accumulating 180,000 miles. He holds a Class A CDL from Maryland. His driving record for the last 3 years shows no crashes and no convictions for moving violations in a CMV.

Request for Comments

In accordance with 49 U.S.C. 31136(e) and 31315, FMCSA requests public comment from all interested persons on the exemption petitions described in this notice. The Agency will consider all comments received before the close of business May 21, 2012. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: April 16, 2012.
Larry W. Minor,
Associate Administrator for Policy.

[FR Doc. 2012-9553 Filed 4-19-12; 8:45 am]

BILLING CODE 4910-EX-P